DEPARTMENT OF THE INTERIOR

Fish and Wildlife Service

50 CFR Part 17

[Docket No. FWS-HQ-ES-2015-0009; 4500090023]

RIN 1018-BA80

Endangered and Threatened Wildlife and Plants; Removing Textual Descriptions of Critical Habitat Boundaries for Plants on the Hawaiian Islands

AGENCY: Fish and Wildlife Service, Interior.

ACTION: Final rule.

SUMMARY: We, the U.S. Fish and Wildlife Service (Service), are removing the textual descriptions of critical habitat boundaries from those designations for plants on the Hawaiian Islands of Kauai, Niihau, and Hawaii for which the maps have been determined to be sufficient to stand as the official delineation of critical habitat. For these entries, the boundaries of critical habitat as mapped or otherwise described will be the official delineation of the designation. The coordinates and/or plot points that we are removing from the Code of Federal Regulations will be available to the public at the lead field office of the Service responsible for the designation and online at the Federal eRulemaking Portal. This action does not increase, decrease, or otherwise change the boundaries of any critical habitat designation. We are taking this action in accordance with our May 1, 2012, revision of the regulations related to publishing textual descriptions of critical habitat boundaries in the Code of Federal Regulations and as part of our response to Executive Order 13563 (January 18, 2011) directing Federal agencies to review their existing regulations and then to modify or streamline them in accordance with what they learned.

DATES: This rule is effective November 27, 2017.

ADDRESSES: This final rule is available online at the Federal eRulemaking Portal at http://www.regulations.gov. Supporting documentation used in the preparation of this rule will be available for public inspection, by appointment, during normal business hours at: U.S. Fish and Wildlife Service, Branch of Listing Policy and Support, MS: ES, 5275 Leesburg Pike, Falls Church, VA 22041-3803; telephone 703-358-2171; facsimile 703-358-1735.

FOR FURTHER INFORMATION CONTACT: Carey Galst, U.S. Fish and Wildlife Service, MS: ES, 5275 Leesburg Pike, Falls Church, VA 22041-3803; telephone 703-358-1954; facsimile 703-358-1735. If you use a telecommunications device for the deaf (TDD), call the Federal Relay Service at 800-877-8339.

SUPPLEMENTARY INFORMATION:

Background

On May 1, 2012, we published a final rule (77 FR 25611) revising our regulations related to publishing textual descriptions of proposed and final critical habitat boundaries in the Federal Register for codification in the Code of Federal Regulations (CFR). In the interest of making the process of designating critical habitat more user-friendly for affected parties and the public as a whole, as well as more efficient and cost effective, we maintained the publication of maps of proposed and final critical habitat designations, but made optional the inclusion of any textual description of the boundaries of the designation in the Federal Register for codification in the CFR. The boundaries of critical habitat as mapped or otherwise described in the Regulation Promulgation section of a rulemaking that is published in the Federal Register is the official delineation of the critical habitat designation. This approach began with rules published after the effective date of the final rule (May 31, 2012).

Specifically, for critical habitat rules published after May 31, 2012, the map(s), as clarified or refined by any textual language within the rule, constitutes the definition of the boundaries of a critical habitat. Each critical habitat area is shown on a map, with more-detailed information discussed in the preamble of the rulemaking documents published in the Federal Register. The map published in the CFR is generated from the coordinates and/or plot points corresponding to the location of the boundaries. These coordinates and/or plot points are included in the administrative record for the designation, and are available to the public either online or at the Service field office responsible for the designation or both. In addition, if the Service concludes that additional tools or supporting information are appropriate and would help the public understand the official boundary map, we make the additional tools and supporting information available on our Internet site and at the Service field office responsible for the critical habitat designation.

This Rule

The preamble to the May 1, 2012, final rule (77 FR 25611) also explained how the Service would handle boundaries for critical habitat that had already been designated before May 31, 2012; the rule states that “for existing critical habitat designations, we also intend to remove the textual descriptions of final critical habitat boundaries set forth in the CFR in order to save the annual reprinting cost, but we must do so in separate rulemakings to ensure that removing the textual descriptions does not change the existing boundaries of those designations” (77 FR 25618). We have now begun applying this approach to critical habitat designations promulgated prior to May 31, 2012. This rule is the first in a series of rules based on our evaluation of the map(s) in each critical habitat designation at 50 CFR 17.95, 17.96, and 17.99 to determine whether or not the map(s) will be sufficient to inform the public of the boundaries of the designations and can therefore stand as the official delineation of the designation.

In this rule, we are removing the textual descriptions of critical habitat boundaries from those entries at 50 CFR 17.99 (plants on the Hawaiian Islands) where we have determined that the maps are sufficient to stand as the official delineation of the designation. Unlike 50 CFR 17.95, which is organized by wildlife group (e.g., mammals) and then by species, and 50 CFR 17.96, which is organized by plant family (e.g., Asteraceae) and then by species, 50 CFR 17.99 is organized geographically: By Hawaiian island and then, for the most part, by ecosystem on that island (e.g., montane wet ecosystem). As such, the criteria we use for evaluating the sufficiency of the maps set forth at 50 CFR 17.99 differ slightly from the criteria we use for evaluating the maps set forth at 50 CFR 17.95 and 17.96.

For the maps at 50 CFR 17.99, we look for a combination of certain map elements, including, but not limited to, the unit name, a clear map key, and an appropriate map scale, to determine whether or not a map is sufficient to serve as the official delineation of the designation. We do not require that there be a State or County name on the map because each Hawaiian island has its own paragraph within 50 CFR 17.99: Critical habitat designations for Kauai are set forth at § 17.99(a)(1); for Niihau, at § 17.99(a)(2); for Molokai, at § 17.99(c); for Maui, at § 17.99(e)(1); for Kahoolawe, at § 17.99(e)(2); for the northwestern Hawaiian islands (Nihoa, Necker, and Laysan), at § 17.99(g); for Oahu, at § 17.99(i); and for Hawaii (the big island), at § 17.99(k). In addition, given that the designations at 50 CFR 17.99 are ecosystem-based, we do not require that there be a full listing of the species names on each map, because an ecosystem may have many species designated within it. In most entries, the text preceding the map gives a full listing of species within the designated critical habitat unit, and each island (or island group) also has a Table of Protected Species that lists the species occupied and unoccupied in each unit. Other entries, such as those for the islands of Kauai and Niihau, include the species name as part of the unit name. Our evaluation of the maps at 50 CFR 17.99 found that nearly every map meets our sufficiency criteria; the only maps that do not meet our criteria are those that we need to correct. Specifically, at 50 CFR 17.99(k), Maps 97, 100, 101, and 102 are either a duplicate of another unit map or labeled with the incorrect species name. We plan to make these map corrections in a future rulemaking, and in this rule we retain the textual descriptions of those units with maps that need correction. The only textual descriptions we are removing in this rule are those set forth for the islands of Kauai, Niihau, and Hawaii at 50 CFR 17.99(a)(1), (a)(2), and (k), respectively. All of the critical habitat designations for plants on the other Hawaiian Islands have been recently updated and/or do not include detailed textual descriptions.

This rule does not increase, decrease, or in any other way change the critical habitat designations from which we are removing the textual descriptions of boundaries. This administrative action will save taxpayer resources. The Service spent $75,225 to reprint the critical habitat designations at 50 CFR 17.99 for the most-recent print edition of the CFR. Based on a review of the print edition of the CFR, we estimate that this rule will remove approximately 132 pages of the relevant CFR volumes, amounting to a savings of approximately $11,220 per year in printing costs for the Service. Over many years, eliminating the need to reprint Universal Transverse Mercator (UTM) coordinate pairs at 50 CFR 17.99 will result in a considerable cumulative cost savings for the Service and the public as a whole.

We will publish a series of rules, of which this is the first, to remove the textual descriptions from all of the critical habitat designations at 50 CFR 17.95, 17.96, and 17.99 that have map(s) sufficient to stand as the official delineation of the designation.

The detailed UTM coordinates or other textual descriptions we are removing in this rule will continue to be available online at the Federal eRulemaking Portal (see ADDRESSES) and at the lead field office responsible for the designation to assist the public in understanding the official boundary.

We note that the Service never maintained that requiring detailed textual descriptions was legally necessary. Instead, the first critical habitat regulations required only that critical habitat designations be “accompanied by maps and/or geographical descriptions” (43 FR 870, 876; January 4, 1978). Although the Service subsequently added the requirement that critical habitat designations include textual descriptions describing the specific boundary limits of the critical habitat, there is nothing in the preamble to that rule indicating that the Service did so because the Act required it. Rather, it was in response to several commenters, who had opined that the proposed rule was not sufficiently clear in setting out the method by which critical habitat boundaries would be described (45 FR 13009, 13015; February 27, 1980).

Removing these unnecessary textual descriptions will significantly reduce the length of some critical habitat designations, making each designation easier to locate in the CFR; will not weaken the effectiveness of the Act; and will not undermine the public's ability to identify the boundaries of critical habitat designations.

The information printed in the CFR is the legally binding delineation of critical habitat. If there is ambiguity due to the scale of the map such that additional regulatory text is needed to ensure that the public has adequate notice of the boundaries, we provide additional regulation text. The only change to the CFR that we are making with this action is removing the detailed coordinate data of the boundaries of the specific areas designated as critical habitat (i.e., latitude-longitude and UTM coordinates). We still generate those data, and make them available at http://www.regulations.gov and at the lead field office of the Service responsible for the critical habitat designation. Neither the critical habitat designation nor the underlying data on which it is based can be changed without undergoing a further rulemaking.

As stated earlier, the actions we are taking in this rule do not increase, decrease, or otherwise change the critical habitat boundaries or areas. For 50 CFR 17.99(a)(1), (a)(2), and (k), we are merely removing the reference points (i.e., UTM coordinates) of the textual descriptions from existing final critical habitat designations, and we are doing so only where we have determined that the existing maps are sufficient to inform the public of the boundaries of the designations and can therefore stand as the official delineation of critical habitat. However, we will continue to provide the reference points of the textual descriptions at http://www.regulations.gov and at the lead field office of the Service responsible for the critical habitat designation.

The actions we are taking in this rule require that we also revise 50 CFR 17.94(b) to make clear which critical habitat designations have maps that stand as the official delineation of critical habitat and which do not. Our revisions to 50 CFR 17.94 also correct the inadvertent omission of a reference to critical habitat areas designated at “§ 17.99 (plants on the Hawaiian Islands)” from paragraph (a) and remove paragraphs (c) and (d). We are removing paragraph (c) because not all of our critical habitat designations include information in the CFR on the biological or physical constituent elements that are known to require special management considerations or protection in a designated area. Such information can still be found in the Federal Register publications proposing and finalizing individual critical habitat designations, as well as in the record for each critical habitat designation. This is also consistent with our regulations, which we recently updated to clarify the procedures for designating and revising critical habitat (81 FR 7414, February 11, 2016). We are removing paragraph (d) because not all of our critical habitat designations follow the sequence of species in the List of Endangered and Threatened Wildlife at 50 CFR 17.11 or the List of Endangered and Threatened Plants at 50 CFR 17.12 (e.g., one designation for several species, such as the designation for five Tennessee and Cumberland River Basin mussel species at 50 CFR 17.95(f), and the designations at 50 CFR 17.99 that are organized by Hawaiian island and ecosystem).

We are publishing this final rule without a prior proposal because we find that there is good cause for doing so pursuant to 5 U.S.C. 553(b)(3)(B). The “good cause” exception applies when an agency finds “that notice and public procedure thereon are impracticable, unnecessary, or contrary to the public interest.” Publication of a proposed rule for this action is unnecessary because this is an administrative action that does not increase, decrease, or otherwise change critical habitat boundaries or areas. Therefore, this action will not affect any legal rights. Rather, it will merely reduce the publication length of some rules designating critical habitat, which will save taxpayer resources and make each designation easier to locate in the CFR. We find that it is in the best interest of the public to promulgate these administrative and technical changes to 50 CFR 17.99 and without undergoing procedures that are unnecessary.

Required Determinations

Regulatory Planning and Review—Executive Orders 12866 and 13563

Executive Order (E.O.) 12866 provides that the Office of Information and Regulatory Affairs (OIRA) will review all significant rules. OIRA has determined that this rule is not significant.

Executive Order 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Executive Order 13771

This rule is not an E.O. 13771 (“Reducing Regulation and Controlling Regulatory Costs”) (82 FR 9339, February 3, 2017) regulatory action because this rule is not significant under E.O. 12866.

Regulatory Flexibility Act (5 U.S.C. 601 et seq.)

Under the Regulatory Flexibility Act (RFA), as amended by the Small Business Regulatory Enforcement Fairness Act of 1996 (SBREFA), 5 U.S.C. 601 et seq., whenever an agency is required to publish a notice of rulemaking for any proposed or final rule, it must prepare and make available for public comment a regulatory flexibility analysis that describes the effects of the rule on small entities (i.e., small businesses, small organizations, and small government jurisdictions). However, no regulatory flexibility analysis is required if the head of the agency certifies the rule will not have a significant economic impact on a substantial number of small entities. The SBREFA amended the RFA to require Federal agencies to provide a statement of the factual basis for certifying that the rule will not have a significant economic impact on a substantial number of small entities.

According to the Small Business Administration, small entities include small organizations such as independent nonprofit organizations; small governmental jurisdictions, including school boards and city and town governments that serve fewer than 50,000 residents; and small businesses (13 CFR 121.201). Small businesses include such businesses as manufacturing and mining concerns with fewer than 500 employees, wholesale trade entities with fewer than 100 employees, and retail and service businesses with less than $5 million in annual sales. In general, the term “significant economic impact” is meant to apply to a typical small business firm's business operations.

This rule will not have a significant economic effect on a substantial number of small entities as defined under the RFA. This rule is an administrative action to remove the textual descriptions from critical habitat designations that have a map(s) sufficient to stand as the official delineation of critical habitat at 50 CFR 17.99(a)(1), (a)(2), and (k). This action does not increase, decrease, or in any other way alter the areas or boundaries of the critical habitat designations from which we are removing the textual descriptions of boundaries.

This administrative action will save taxpayer resources. The Service spent $75,225 to reprint the critical habitat designations at 50 CFR 17.99 for the most-recent print edition of the CFR. Based on a review of the print edition of the CFR, we estimate that this rule will remove approximately 132 pages of the relevant CFR volumes, amounting to a savings of approximately $11,220 per year in printing costs paid by the Service. While over many years, eliminating the need to reprint Universal Transverse Mercator (UTM) coordinate pairs at 50 CFR 17.99 will result in a considerable cumulative cost savings to the Service and the public as a whole, this rule will result in only a small annual savings to the Service and the public.

Therefore, for the reasons above, we certify that this rule will not have a significant economic impact on a substantial number of small entities.

Unfunded Mandates Reform Act (2 U.S.C. 1501 et seq.)

In accordance with the Unfunded Mandates Reform Act (2 U.S.C. 1501 et seq.), the Services make the following findings:

a. This rule will not produce a Federal mandate. In general, a Federal mandate is a provision in legislation, statute, or regulation that would impose an enforceable duty upon State, local, or tribal governments, or the private sector, and includes both “Federal intergovernmental mandates” and “Federal private sector mandates.” These terms are defined in 2 U.S.C. 658(5)-(7). “Federal intergovernmental mandate” includes a regulation that “would impose an enforceable duty upon State, local, or tribal governments” with two exceptions: (1) “a condition of Federal assistance” or (2) “a duty arising from participation in a voluntary Federal program,” unless the regulation “relates to a then-existing Federal program under which $500,000,000 or more is provided annually to State, local, and tribal governments under entitlement authority”; the provision would either “increase the stringency of conditions of assistance” or “place caps upon, or otherwise decrease, the Federal Government's responsibility to provide funding”; and the State, local, or tribal governments “lack authority . . . to amend their financial or programmatic responsibilities to continue providing required services.” At the time of enactment, these entitlement programs were: Medicaid; AFDC work programs; Child Nutrition; Food Stamps; Social Services Block Grants; Vocational Rehabilitation State Grants; Foster Care, Adoption Assistance, and Independent Living; Family Support Welfare Services; and Child Support Enforcement. “Federal private sector mandate” includes a regulation that “would impose an enforceable duty upon the private sector, except (i) a condition of Federal assistance or (ii) a duty arising from participation in a voluntary Federal program.” This rule does not produce a Federal mandate under either of these definitions.

b. This rule will not significantly or uniquely affect small governments because the revisions to the regulations in this rule should make our critical habitat designations more reader-friendly and will make the process more cost-effective for the Service and the public as a whole. As such, we do not believe that a Small Government Agency Plan is required.

Takings—Executive Order 12630

In accordance with Executive Order 12630 (“Government Actions and Interference with Constitutionally Protected Private Property Rights”), we have evaluated this rule, and we have determined that this rule does not pose significant takings implications. The revisions to the regulations set forth in this rule do not involve individual property rights.

Federalism—Executive Order 13132

In accordance with Executive Order 13132 (Federalism), the rule does not have significant Federalism effects. A federalism summary impact statement is not required. The revisions to the regulations addressed in this rule are intended to promote the usability of the regulations and make the process of designating critical habitat more cost-effective, and thus should not significantly affect or burden the authority of the States to govern themselves.

Civil Justice Reform—Executive Order 12988

In accordance with Executive Order 12988 (Civil Justice Reform), this rule follows the Civil Justice Reform principles for regulations that do not unduly burden the Federal judicial system, by meeting the requirements of sections 3(a) and 3(b) of the Executive Order. The revisions to the regulations addressed in this rule should not significantly affect or burden the judicial system.

Paperwork Reduction Act of 1995

This rule does not contain any new collections of information that require approval by OMB under the Paperwork Reduction Act (44 U.S.C. 3501 et seq.). This rule will not impose recordkeeping or reporting requirements on State or local governments, individuals, businesses, or organizations. An agency may not conduct or sponsor, and a person is not required to respond to, a collection of information unless it displays a currently valid OMB control number.

National Environmental Policy Act (NEPA)

We analyzed this rule in accordance with the criteria of the National Environmental Policy Act of 1969 (NEPA) (42 U.S.C. 4321 et seq.), 43 CFR part 46, and 516 Departmental Manual (DM) 2 and 8.

A categorical exclusion from NEPA documentation applies to policies, directives, regulations, and guidelines that are “of an administrative, financial, legal, technical, or procedural nature” (43 CFR 46.210(i)). However, even if an individual Federal action falls within a categorical exclusion, the Service must still prepare environmental documents pursuant to NEPA if one of the 12 exceptions listed in 43 CFR 46.215 applies.

We have reviewed each of the 12 exceptions and have found that because this rule is administrative in nature, none of the exceptions apply. Therefore, this action meets the requirements for a categorical exclusion from the NEPA process.

Government-to-Government Relationship With Tribes

In accordance with the President's memorandum of April 29, 1994, “Government-to-Government Relations with Native American Tribal Governments” (59 FR 22951), Executive Order 13175 “Consultation and Coordination with Indian Tribal Governments,” and the Department of the Interior Manual at 512 DM 2, we readily acknowledge our responsibility to communicate meaningfully with recognized Native American Tribes on a government-to-government basis. We have evaluated the potential effects on federally recognized Tribes from these revisions to our regulations. We have determined that there are no potential effects to federally recognized Tribes, because the revisions to the regulations are intended to promote the usability of critical habitat designations and save taxpayer monies. However, we will continue to coordinate with Tribes as we promulgate critical habitat designations.

Energy Supply, Distribution, or Use

Executive Order 13211 (Actions Concerning Regulations That Significantly Affect Energy Supply, Distribution, or Use) requires agencies to prepare Statements of Energy Effects when undertaking certain actions. “Significant energy action” means any action by an agency (normally published in the Federal Register) that promulgates or is expected to lead to the promulgation of a final rule or regulation, including notices of inquiry, advance notices of proposed rulemaking, and notices of proposed rulemaking that is a significant regulatory action under Executive Order 12866 or any successor order, and is likely to have a significant adverse effect on the supply, distribution, or use of energy; or that is designated by the Administrator of the Office of Information and Regulatory Affairs as a significant energy action. This rule does not qualify as a significant regulatory action under Executive Order 12866; will not have a significant adverse effect on the supply, distribution, or use of energy; and has not been designated by the Administrator of the Office of Information and Regulatory Affairs as a significant energy action. Therefore, this action is not a significant energy action and no Statement of Energy Effects is required.

List of Subjects in 50 CFR Part 17

Endangered and threatened species, Exports, Imports, Reporting and recordkeeping requirements, Transportation.

Regulation Promulgation

Accordingly, we amend part 17, subchapter B of chapter I, title 50 of the Code of Federal Regulations, as follows:

PART 17—ENDANGERED AND THREATENED WILDLIFE AND PLANTS

1. The authority citation for part 17 continues to read as follows:

Authority: 16 U.S.C. 1361-1407; 1531-1544; 4201-4245, unless otherwise noted.

2. Revise § 17.94 to read as follows:

§ 17.94 Critical habitats.

(a) The areas listed in § 17.95 (fish and wildlife), § 17.96 (plants), and § 17.99 (plants on the Hawaiian Islands) and referred to in the lists at §§ 17.11 and 17.12 have been determined by the Director to be critical habitat. All Federal agencies must insure that any action authorized, funded, or carried out by them is not likely to result in the destruction or adverse modification of the constituent elements essential to the conservation of the listed species within these defined critical habitats. (See part 402 for rules concerning this prohibition; see also part 424 for rules concerning the determination of critical habitat).

(b) Maps.

If the critical habitat map appears in . . . | Then . . .
(1) A critical habitat designation in § 17.99, or (2) A critical habitat designation published and effective after May 31, 2012, | The map provided by the Secretary of the Interior, as clarified or refined by any textual language within the rule, constitutes the definition of the boundaries of a critical habitat. Each critical habitat area will be shown on a map, with more-detailed information discussed in the preamble of the rulemaking documents published in the Federal Register and made available from the lead field office of the Service responsible for such designation. Each area will be referenced to the State(s), county(ies), or other local government units within which all or part of the critical habitat is located. General descriptions of the location and boundaries of each area may be provided to clarify or refine what is included within the boundaries depicted on the map, or to explain the exclusion of sites (e.g., paved roads, buildings) within the mapped area. Unless otherwise indicated within the critical habitat descriptions, the names of the State(s) and county(ies) are provided for informational purposes only and do not constitute the boundaries of the area.
(3) A critical habitat designation that specifically states that the map(s) is for informational purposes only, or (4) A critical habitat designation published and effective on or prior to May 31, 2012, that is set forth at § 17.95 or § 17.96, | The map provided by the Secretary of the Interior is for reference purposes to guide Federal agencies and other interested parties in locating the general boundaries of the critical habitat. The map does not, unless otherwise indicated, constitute the definition of the boundaries of a critical habitat. Critical habitats are described by reference to surveyable landmarks found on standard topographic maps of the area and to the States and county(ies) within which all or part of the critical habitat is located. Unless otherwise indicated within the critical habitat description, the State and county(ies) names are provided for informational purposes only.

§ 17.99 [Amended]

3. Amend § 17.99 in paragraphs (a) and (k) as demonstrated in the following tables:

Amend | By removing and reserving paragraph(s): | By removing paragraph(s): | By removing the second sentence of paragraph: | By removing the word “NOTE:” from paragraph:
(a)(1)(ii) | (A) |  |  | (B)
(a)(1)(iii) | (A) |  |  | (B)
(a)(1)(iv) | (A) |  |  | (B)
(a)(1)(v) | (A) |  |  | (B)
(a)(1)(vi) |  |  | (A) | (B)
(a)(1)(vii) | (A) |  |  |
(a)(1)(viii) | (A) |  |  | (B)
(a)(1)(ix) | (A) |  |  |
(a)(1)(x) | (A) |  |  | (B)
(a)(1)(xi) | (A) |  |  | (B)
(a)(1)(xii) | (A) |  |  | (B)
(a)(1)(xiii) | (A) |  |  | (B)
(a)(1)(xiv) | (A) |  |  | (B)
(a)(1)(xv) | (A) |  |  | (B)
(a)(1)(xvi) | (A) |  |  |
(a)(1)(xvii) | (A) |  |  |
(a)(1)(xviii) | (A) |  |  |
(a)(1)(xix) | (A) |  |  | (B)
(a)(1)(xx) | (A) |  |  | (B)
(a)(1)(xxi) | (A) |  |  | (B)
(a)(1)(xxii) | (A) |  |  | (B)
(a)(1)(xxiii) | (A) |  |  | (B)
(a)(1)(xxiv) | (A) |  |  | (B)
(a)(1)(xxv) | (A) |  |  |
(a)(1)(xxvi) | (A) |  |  |
(a)(1)(xxvii) | (A) |  |  |
(a)(1)(xxviii) | (A) |  |  | (B)
(a)(1)(xxix) | (A) |  |  |
(a)(1)(xxx) | (A) |  |  | (B)
(a)(1)(xxxi) | (A) |  |  | (B)
(a)(1)(xxxii) | (A) |  |  | (B)
(a)(1)(xxxiii) | (A) |  |  | (B)
(a)(1)(xxxiv) |  |  | (A) | (B)
(a)(1)(xxxv) | (A) |  |  |
(a)(1)(xxxvi) | (A) |  |  |
(a)(1)(xxxvii) | (A) |  |  |
(a)(1)(xxxviii) | (A) |  |  | (B)
(a)(1)(xxxix) | (A) |  |  |
(a)(1)(xl) | (A) |  |  |
(a)(1)(xli) | (A) |  |  | (B)
(a)(1)(xlii) | (A) |  |  |
(a)(1)(xliii) | (A) |  |  | (B)
(a)(1)(xliv) | (A) |  |  | (B)
(a)(1)(xlv) | (A) |  |  | (B)
(a)(1)(xlvi) | (A) |  |  | (B)
(a)(1)(xlvii) | (A) |  |  | (B)
(a)(1)(xlviii) | (A) |  |  |
(a)(1)(xlix) | (A) |  |  |
(a)(1)(l) | (A) |  |  |
(a)(1)(li) | (A) |  |  | (B)
(a)(1)(lii) | (A) |  |  | (B)
(a)(1)(liii) | (A) |  |  |
(a)(1)(liv) | (A) |  |  | (B)
(a)(1)(lv) | (A) |  |  | (B)
(a)(1)(lvi) | (A) |  |  | (B)
(a)(1)(lvii) |  |  | (A) | (B)
(a)(1)(lviii) | (A) |  |  | (B)
(a)(1)(lix) |  | (A)(1) and (2) |  | (B)
(a)(1)(lx) |  |  | (A) | (B)
(a)(1)(lxi) | (A) |  |  |
(a)(1)(lxii) | (A) |  |  |
(a)(1)(lxiii) | (A) |  |  |
(a)(1)(lxiv) | (A) |  |  |
(a)(1)(lxv) | (A) |  |  | (B)
(a)(1)(lxvi) | (A) |  |  |
(a)(1)(lxvii) | (A) |  |  |
(a)(1)(lxviii) | (A) |  |  |
(a)(1)(lxix) | (A) |  |  |
(a)(1)(lxx) | (A) |  |  | (B)
(a)(1)(lxxi) | (A) |  |  | (B)
(a)(1)(lxxii) | (A) |  |  | (B)
(a)(1)(lxxiii) | (A) |  |  |
(a)(1)(lxxiv) | (A) |  |  |
(a)(1)(lxxv) | (A) |  |  |
(a)(1)(lxxvi) | (A) |  |  |
(a)(1)(lxxvii) | (A) |  |  |
(a)(1)(lxxviii) | (A) |  |  |
(a)(1)(lxxix) | (A) |  |  | (B)
(a)(1)(lxxx) | (A) |  |  |
(a)(1)(lxxxi) | (A) |  |  |
(a)(1)(lxxxii) | (A) |  |  | (B)
(a)(1)(lxxxiii) | (A) |  |  |
(a)(1)(lxxxiv) | (A) |  |  | (B)
(a)(1)(lxxxv) | (A) |  |  | (B)
(a)(1)(lxxxvi) | (A) |  |  |
(a)(1)(lxxxvii) | (A) |  |  |
(a)(1)(lxxxviii) | (A) |  |  |
(a)(1)(lxxxix) | (A) |  |  |
(a)(1)(xc) | (A) |  |  | (B)
(a)(1)(xci) | (A) |  |  |
(a)(1)(xcii) | (A) |  |  | (B)
(a)(1)(xciii) | (A) |  |  |
(a)(1)(xciv) | (A) |  |  | (B)
(a)(1)(xcv) | (A) |  |  |
(a)(1)(xcvi) | (A) |  |  |
(a)(1)(xcvii) | (A) |  |  |
(a)(1)(xcviii) | (A) |  |  |
(a)(1)(xcix) | (A) |  |  |
(a)(1)(c) | (A) |  |  |
(a)(1)(ci) | (A) |  |  |
(a)(1)(cii) | (A) |  |  | (B)
(a)(1)(ciii) | (A) |  |  |
(a)(1)(civ) | (A) |  |  | (B)
(a)(1)(cv) | (A) |  |  |
(a)(1)(cvi) | (A) |  |  |
(a)(1)(cvii) | (A) |  |  | (B)
(a)(1)(cviii) | (A) |  |  |
(a)(1)(cix) | (A) |  |  |
(a)(1)(cx) | (A) |  |  |
(a)(1)(cxi) | (A) |  |  |
(a)(1)(cxii) | (A) |  |  | (B)
(a)(1)(cxiii) | (A) |  |  |
(a)(1)(cxiv) | (A) |  |  |
(a)(1)(cxv) | (A) |  |  |
(a)(1)(cxvi) | (A) |  |  |
(a)(1)(cxvii) | (A) |  |  | (B)
(a)(1)(cxviii) | (A) |  |  | (B)
(a)(1)(cxix) | (A) |  |  | (B)
(a)(1)(cxx) | (A) |  |  | (B)
(a)(1)(cxxi) | (A) |  |  | (C)
(a)(1)(cxxii) | (A) |  |  | (B)
(a)(1)(cxxiii) | (A) |  |  | (B)
(a)(1)(cxxiv) | (A) |  |  | (B)
(a)(1)(cxxv) | (A) |  |  | (B)
(a)(1)(cxxvi) | (A) |  |  | (B)
(a)(1)(cxxvii) | (A) |  |  | (B)
(a)(1)(cxxviii) | (A) |  |  | (B)
(a)(1)(cxxix) | (A) |  |  | (B)
(a)(1)(cxxx) |  | (A)(1) through (5) |  | (B)
(a)(1)(cxxxi) | (A) |  |  | (B)
(a)(1)(cxxxii) | (A) |  |  | (B)
(a)(1)(cxxxiii) |  | (A)(1) through (4) |  | (B)
(a)(1)(cxxxiv) | (A) |  |  | (B)
(a)(1)(cxxxv) | (A) |  |  |
(a)(1)(cxxxvi) |  | (A)(1) and (2) |  | (B)
(a)(1)(cxxxvii) | (A) |  |  | (B)
(a)(1)(cxxxviii) | (A) |  |  | (B)
(a)(1)(cxxxix) | (A) |  |  | (B)
(a)(1)(cxl) |  | (A)(1) through (4) |  | (B)
(a)(1)(cxli) |  |  | (A) | (B)
(a)(1)(cxlii) | (A) |  |  |
(a)(1)(cxliii) | (A) |  |  |
(a)(1)(cxliv) | (A) |  |  |
(a)(1)(cxlv) | (A) |  |  |
(a)(1)(cxlvi) |  | (A)(1) and (2) |  | (B)
(a)(1)(cxlvii) | (A) |  |  |
(a)(1)(cxlviii) | (A) |  |  |
(a)(1)(cxlix) | (A) |  |  | (B)
(a)(1)(cl) | (A) |  |  |
(a)(1)(cli) | (A) |  |  |
(a)(1)(clii) | (A) |  |  |
(a)(1)(cliii) | (A) |  |  |
(a)(1)(cliv) | (A) |  |  | (B)
(a)(1)(clv) | (A) |  |  | (B)
(a)(1)(clvi) | (A) |  |  | (B)
(a)(1)(clvii) | (A) |  |  | (B)
(a)(1)(clviii) | (A) |  |  | (B)
(a)(1)(clix) | (A) |  |  | (B)
(a)(1)(clx) | (A) |  |  | (B)
(a)(1)(clxi) | (A) |  |  | (B)
(a)(1)(clxii) | (A) |  |  | (B)
(a)(1)(clxiii) | (A) |  |  |
(a)(1)(clxiv) | (A) |  |  |
(a)(1)(clxv) | (A) |  |  |
(a)(1)(clxvi) | (A) |  |  | (B)
(a)(1)(clxvii) | (A) |  |  | (B)
(a)(1)(clxviii) | (A) |  |  | (B)
(a)(1)(clxix) | (A) |  |  | (B)
(a)(1)(clxx) | (A) |  |  | (B)
(a)(1)(clxxi) | (A) |  |  | (B)
(a)(1)(clxxii) | (A) |  |  |
(a)(1)(clxxiii) | (A) |  |  | (B)
(a)(1)(clxxiv) | (A) |  |  | (B)
(a)(1)(clxxv) | (A) |  |  | (B)
(a)(1)(clxxvi) | (A) |  |  |
(a)(1)(clxxvii) | (A) |  |  |
(a)(1)(clxxviii) | (A) |  |  |
(a)(1)(clxxix) | (A) |  |  |
(a)(1)(clxxx) | (A) |  |  |
(a)(1)(clxxxi) | (A) |  |  | (B)
(a)(1)(clxxxii) | (A) |  |  | (C)
(a)(1)(clxxxiii) | (A) |  |  | (B)
(a)(1)(clxxxiv) | (A) |  |  |
(a)(1)(clxxxv) | (A) |  |  |
(a)(1)(clxxxvi) | (A) |  |  | (B)
(a)(1)(clxxxvii) | (A) |  |  | (B)
(a)(1)(clxxxviii) | (A) |  |  | (C)
(a)(1)(clxxxix) | (A) |  |  | (B)
(a)(1)(cxc) | (A) |  |  | (B)
(a)(1)(cxci) | (A) |  |  | (B)
(a)(1)(cxcii) | (A) |  |  | (C)
(a)(1)(cxciii) | (A) |  |  | (B)
(a)(1)(cxciv) | (A) |  |  | (B)
(a)(1)(cxcv) | (A) |  |  | (B)
(a)(1)(cxcvi) | (A) |  |  | (B)
(a)(1)(cxcvii) | (A) |  |  | (B)
(a)(1)(cxcviii) | (A) |  |  | (B)
(a)(1)(cxcix) | (A) |  |  |
(a)(1)(cc) | (A) |  |  | (B)
(a)(1)(cci) | (A) |  |  | (B)
(a)(1)(ccii) | (A) |  |  | (B)
(a)(1)(cciii) | (A) |  |  | (B)
(a)(1)(cciv) | (A) |  |  | (B)
(a)(1)(ccv) | (A) |  |  | (B)
(a)(1)(ccvi) | (A) |  |  | (B)
(a)(1)(ccvii) | (A) |  |  | (B)
(a)(1)(ccviii) | (A) |  |  | (B)
(a)(1)(ccix) | (A) |  |  | (B)
(a)(1)(ccx) | (A) |  |  | (B)
(a)(1)(ccxi) | (A) |  |  | (B)
(a)(1)(ccxii) | (A) |  |  | (B)
(a)(1)(ccxiii) | (A) |  |  | (B)
(a)(1)(ccxiv) | (A) |  |  | (B)
(a)(1)(ccxv) | (A) |  |  | (B)
(a)(1)(ccxvi) | (A) |  |  |
(a)(1)(ccxvii) | (A) |  |  |
(a)(1)(ccxviii) | (A) |  |  | (B)
(a)(1)(ccxix) | (A) |  |  | (B)
(a)(1)(ccxx) | (A) |  |  | (B)
(a)(1)(ccxxi) | (A) |  |  | (B)
(a)(1)(ccxxii) | (A) |  |  |
(a)(1)(ccxxiii) | (A) |  |  |
(a)(1)(ccxxiv) | (A) |  |  |
(a)(1)(ccxxv) | (A) |  |  |
(a)(1)(ccxxvi) | (A) |  |  | (B)
(a)(1)(ccxxvii) | (A) |  |  | (B)
(a)(1)(ccxxviii) | (A) |  |  | (B)
(a)(1)(ccxxix) | (A) |  |  |
(a)(1)(ccxxx) | (A) |  |  | (B)
(a)(1)(ccxxxi) | (A) |  |  | (B)
(a)(1)(ccxxxii) | (A) |  |  | (B)
(a)(1)(ccxxxiii) | (A) |  |  | (B)
(a)(1)(ccxxxiv) | (A) |  |  | (B)
(a)(1)(ccxxxv) | (A) |  |  |
(a)(1)(ccxxxvi) | (A) |  |  |
(a)(1)(ccxxxvii) | (A) |  |  |
(a)(1)(ccxxxviii) | (A) |  |  |
(a)(1)(ccxxxix) | (A) |  |  |
(a)(1)(ccxl) | (A) |  |  | (B)
(a)(1)(ccxli) | (A) |  |  |
(a)(1)(ccxlii) | (A) |  |  | (B)
(a)(1)(ccxliii) | (A) |  |  | (B)
(a)(1)(ccxliv) | (A) |  |  | (B)
(a)(1)(ccxlv) | (A) |  |  | (C)
(a)(1)(ccxlvi) | (A) |  |  | (B)
(a)(1)(ccxlvii) | (A) |  |  | (B)
(a)(1)(ccxlviii) | (A) |  |  |
(a)(1)(ccxlix) | (A) |  |  |
(a)(1)(ccl) | (A) |  |  |
(a)(1)(ccli) | (A) |  |  | (B)
(a)(1)(cclii) | (A) |  |  | (B)
(a)(1)(ccliii) | (A) |  |  |
(a)(1)(ccliv) | (A) |  |  | (B)
(a)(1)(cclv) | (A) |  |  | (B)
(a)(1)(cclvi) | (A) |  |  | (C)
(a)(1)(cclvii) | (A) |  |  | (B)
(a)(1)(cclviii) | (A) |  |  |
(a)(1)(cclix) | (A) |  |  |
(a)(1)(cclx) | (A) |  |  | (B)
(a)(1)(cclxi) | (A) |  |  | (C)
(a)(1)(cclxii) | (A) |  |  | (B)
(a)(1)(cclxiii) | (A) |  |  | (B)
(a)(1)(cclxiv) | (A) |  |  | (B)
(a)(1)(cclxv) | (A) |  |  | (B)
(a)(1)(cclxvi) | (A) |  |  |
(a)(1)(cclxvii) | (A) |  |  |
(a)(1)(cclxviii) | (A) |  |  | (B)
(a)(1)(cclxix) | (A) |  |  | (B)
(a)(1)(cclxx) | (A) |  |  | (B)
(a)(1)(cclxxi) | (A) |  |  | (C)
(a)(1)(cclxxii) | (A) |  |  |
(a)(1)(cclxxiii) | (A) |  |  | (B)
(a)(1)(cclxxiv) | (A) |  |  | (B)
(a)(1)(cclxxv) | (A) |  |  | (B)
(a)(1)(cclxxvi) | (A) |  |  | (B)
(a)(1)(cclxxvii) | (A) |  |  |
(a)(1)(cclxxviii) | (A) |  |  |
(a)(1)(cclxxix) | (A) |  |  |
(a)(1)(cclxxx) | (A) |  |  |
(a)(1)(cclxxxi) | (A) |  |  |
(a)(1)(cclxxxii) | (A) |  |  | (B)
(a)(1)(cclxxxiii) | (A) |  |  | (B)
(a)(1)(cclxxxiv) | (A) |  |  | (B)
(a)(1)(cclxxxv) | (A) |  |  | (B)
(a)(1)(cclxxxvi) | (A) |  |  | (B)
(a)(1)(cclxxxvii) | (A) |  |  | (B)
(a)(1)(cclxxxviii) | (A) |  |  | (C)
(a)(1)(cclxxxix) | (A) |  |  | (B)
(a)(1)(ccxc) | (A) |  |  |
(a)(1)(ccxci) | (A) |  |  |
(a)(1)(ccxcii) | (A) |  |  |
(a)(1)(ccxciii) | (A) |  |  | (B)
(a)(1)(ccxciv) | (A) |  |  | (B)
(a)(1)(ccxcv) | (A) |  |  | (B)
(a)(1)(ccxcvi) | (A) |  |  | (C)
(a)(1)(ccxcvii) | (A) |  |  | (B)
(a)(1)(ccxcviii) | (A) |  |  | (B)
(a)(1)(ccxcix) | (A) |  |  | (B)
(a)(1)(ccc) | (A) |  |  | (B)
(a)(1)(ccci) | (A) |  |  | (B)
(a)(1)(cccii) | (A) |  |  | (B)
(a)(1)(ccciii) | (A) |  |  | (B)
(a)(1)(ccciv) | (A) |  |  | (B)
(a)(1)(cccv) | (A) |  |  | (B)
(a)(1)(cccvi) | (A) |  |  | (B)
(a)(1)(cccvii) | (A) |  |  | (B)
(a)(1)(cccviii) | (A) |  |  | (B)
(a)(1)(cccix) | (A) |  |  |
(a)(1)(cccx) | (A) |  |  | (B)
(a)(1)(cccxi) | (A) |  |  | (B)
(a)(1)(cccxii) | (A) |  |  | (B)
(a)(1)(cccxiii) | (A) |  |  | (B)
(a)(1)(cccxiv) | (A) |  |  | (B)
(a)(1)(cccxv) | (A) |  |  | (B)
(a)(1)(cccxvi) | (A) |  |  | (B)
(a)(1)(cccxvii) | (A) |  |  | (B)
(a)(1)(cccxviii) | (A) |  |  | (B)
(a)(1)(cccxix) | (A) |  |  | (B)
(a)(1)(cccxx) | (A) |  |  | (B)
(a)(1)(cccxxi) | (A) |  |  | (B)
(a)(1)(cccxxii) | (A) |  |  | (C)
(a)(1)(cccxxiii) | (A) |  |  | (C)
(a)(1)(cccxxiv) | (A) |  |  | (B)
(a)(1)(cccxxv) | (A) |  |  | (C)
(a)(1)(cccxxvi) | (A) |  |  | (B)
(a)(1)(cccxxvii) | (A) |  |  | (B)
(a)(1)(cccxxviii) | (A) |  |  | (B)
(a)(1)(cccxxix) | (A) |  |  |
(a)(1)(cccxxx) | (A) |  |  |
(a)(1)(cccxxxi) | (A) |  |  |
(a)(1)(cccxxxii) | (A) |  |  |
(a)(1)(cccxxxiii) | (A) |  |  |
(a)(1)(cccxxxiv) | (A) |  |  |
(a)(1)(cccxxxv) | (A) |  |  |
(a)(1)(cccxxxvi) | (A) |  |  |
(a)(1)(cccxxxvii) | (A) |  |  | (B)
(a)(1)(cccxxxviii) | (A) |  |  | (B)
(a)(1)(cccxxxix) | (A) |  |  | (C)
(a)(1)(cccxl) | (A) |  |  | (B)
(a)(1)(cccxli) | (A) |  |  | (B)
(a)(1)(cccxlii) | (A) |  |  | (B)
(a)(1)(cccxliii) | (A) |  |  | (B)
(a)(1)(cccxliv) | (A) |  |  | (B)
(a)(1)(cccxlv) | (A) |  |  | (B)
(a)(1)(cccxlvi) | (A) |  |  | (B)
(a)(1)(cccxlvii) | (A) |  |  | (B)
(a)(1)(cccxlviii) | (A) |  |  | (B)
(a)(1)(cccxlix) | (A) |  |  | (B)
(a)(1)(cccl) | (A) |  |  | (B)
(a)(1)(cccli) |  |  | (A) | (B)
(a)(1)(ccclii) | (A) |  |  |
(a)(1)(cccliii) | (A) |  |  |
(a)(1)(cccliv) | (A) |  |  |
(a)(1)(ccclv) | (A) |  |  |
(a)(1)(ccclvi) | (A) |  |  |
(a)(1)(ccclvii) | (A) |  |  |
(a)(1)(ccclviii) | (A) |  |  |
(a)(1)(ccclix) | (A) |  |  |
(a)(1)(ccclx) | (A) |  |  |
(a)(1)(ccclxi) |  |  | (A) | (B)
(a)(1)(ccclxii) | (A) |  |  |
(a)(1)(ccclxiii) | (A) |  |  |
(a)(1)(ccclxiv) | (A) |  |  |
(a)(1)(ccclxv) | (A) |  |  |
(a)(1)(ccclxvi) | (A) |  |  |
(a)(1)(ccclxvii) | (A) |  |  |
(a)(1)(ccclxviii) | (A) |  |  |
(a)(1)(ccclxix) | (A) |  |  |
(a)(1)(ccclxx) | (A) |  |  |
(a)(1)(ccclxxi) |  |  | (A) | (B)
(a)(1)(ccclxxii) | (A) |  |  |
(a)(1)(ccclxxiii) | (A) |  |  |
(a)(1)(ccclxxiv) | (A) |  |  |
(a)(1)(ccclxxv) | (A) |  |  |
(a)(1)(ccclxxvi) | (A) |  |  |
(a)(1)(ccclxxvii) | (A) |  |  |
(a)(1)(ccclxxviii) | (A) |  |  |
(a)(1)(ccclxxix) | (A) |  |  |
(a)(1)(ccclxxx) | (A) |  |  |
(a)(1)(ccclxxxi) | (A) |  |  |
(a)(1)(ccclxxxii) | (A) |  |  |
(a)(1)(ccclxxxiii) | (A) |  |  |
(a)(1)(ccclxxxiv) | (A) |  |  |
(a)(1)(ccclxxxv) | (A) |  |  |
(a)(1)(ccclxxxvi) | (A) |  |  |
(a)(1)(ccclxxxvii) |  |  | (A) | (B)
(a)(1)(ccclxxxviii) | (A) |  |  |
(a)(1)(ccclxxxix) | (A) |  |  |
(a)(1)(cccxc) | (A) |  |  |
(a)(1)(cccxci) | (A) |  |  |
(a)(1)(cccxcii) | (A) |  |  |
(a)(1)(cccxciii) | (A) |  |  |
(a)(1)(cccxciv) | (A) |  |  |
(a)(1)(cccxcv) | (A) |  |  |
(a)(1)(cccxcvi) |  |  | (A) | (B)
(a)(1)(cccxcvii) | (A) |  |  |
(a)(1)(cccxcviii) | (A) |  |  |
(a)(1)(cccxcix) | (A) |  |  |
(a)(1)(cd) | (A) |  |  |
(a)(1)(cdi) | (A) |  |  |
(a)(1)(cdii) | (A) |  |  |
(a)(1)(cdiii) | (A) |  |  |
(a)(1)(cdiv) | (A) |  |  |
(a)(1)(cdv) |  |  | (A) | (B)
(a)(1)(cdvi) | (A) |  |  |
(a)(1)(cdvii) | (A) |  |  |
(a)(1)(cdviii) | (A) |  |  |
(a)(1)(cdix) | (A) |  |  |
(a)(1)(cdx) | (A) |  |  |
(a)(1)(cdxi) | (A) |  |  |
(a)(1)(cdxii) | (A) |  |  |
(a)(1)(cdxiii) | (A) |  |  |
(a)(1)(cdxiv) | (A) |  |  |
(a)(1)(cdxv) | (A) |  |  |
(a)(1)(cdxvi) | (A) |  |  |
(a)(1)(cdxvii) | (A) |  |  |
(a)(1)(cdxviii) | (A) |  |  |
(a)(1)(cdxix) | (A) |  |  |
(a)(1)(cdxx) | (A) |  |  |
(a)(1)(cdxxi) | (A) |  |  |
(a)(1)(cdxxii) | (A) |  |  |
(a)(1)(cdxxiii) |  |  | (A) | (B)
(a)(1)(cdxxiv) | (A) |  |  |
(a)(1)(cdxxv) | (A) |  |  |
(a)(1)(cdxxvi) | (A) |  |  |
(a)(1)(cdxxvii) | (A) |  |  |
(a)(1)(cdxxviii) | (A) |  |  |
(a)(1)(cdxxix) | (A) |  |  |
(a)(1)(cdxxx) | (A) |  |  |
(a)(1)(cdxxxi) | (A) |  |  |
(a)(1)(cdxxxii) | (A) |  |  |
(a)(1)(cdxxxiii) | (A) |  |  |
(a)(1)(cdxxxiv) | (A) |  |  |
(a)(1)(cdxxxv) | (A) |  |  |
(a)(1)(cdxxxvi) | (A) |  |  |
(a)(1)(cdxxxvii) | (A) |  |  |
(a)(1)(cdxxxviii) | (A) |  |  |
(a)(1)(cdxxxix) | (A) |  |  |
(a)(1)(cdxl) | (A) |  |  |
(a)(1)(cdxli) |  |  | (A) | (B)
(a)(1)(cdxlii) | (A) |  |  |
(a)(1)(cdxliii) | (A) |  |  |
(a)(1)(cdxliv) | (A) |  |  |
(a)(1)(cdxlv) | (A) |  |  |
(a)(1)(cdxlvi) | (A) |  |  |
(a)(1)(cdxlvii) | (A) |  |  |
(a)(1)(cdxlviii) | (A) |  |  |
(a)(1)(cdxlix) | (A) |  |  |
(a)(1)(cdl) | (A) |  |  |
(a)(1)(cdli) | (A) |  |  |
(a)(1)(cdlii) | (A) |  |  |
(a)(1)(cdliii) | (A) |  |  |
(a)(1)(cdliv) | (A) |  |  |
(a)(1)(cdlv) | (A) |  |  |
(a)(1)(cdlvi) | (A) |  |  |
(a)(1)(cdlvii) | (A) |  |  |
(a)(1)(cdlviii) | (A) |  |  |
(a)(2)(i) | (A) |  |  | (B)

Amend | By removing and reserving paragraph(s): | By removing the word “NOTE:” from paragraph:
(k)(2) | (i) | (ii)
(k)(3) | (i) | (ii)
(k)(4) | (i) | (ii)
(k)(5) | (i) | (ii)
(k)(6) | (i) | (ii)
(k)(7) | (i) | (ii)
(k)(8) | (i) | (ii)
(k)(9) | (i) | (ii)
(k)(10) | (i) | (ii)
(k)(11) | (i) | (ii)
(k)(12) | (i) | (ii)
(k)(13) | (i) | (ii)
(k)(14) | (i) | (ii)
(k)(15) | (i) | (ii)
(k)(16) | (i) | (ii)
(k)(17) | (i) | (ii)
(k)(18) | (i) | (ii)
(k)(19) | (i) | (ii)
(k)(20) | (i) | (ii)
(k)(21) | (i) | (ii)
(k)(22) | (i) | (ii)
(k)(23) | (i) | (ii)
(k)(24) | (i) | (ii)
(k)(25) | (i) | (ii)
(k)(26) | (i) | (ii)
(k)(27) | (i) | (ii)
(k)(28) | (i) | (ii)
(k)(29) | (i) | (iii)
(k)(30) | (i) | (iii)
(k)(31) | (i) | (ii)
(k)(32) | (i) | (ii)
(k)(33) | (i) | (iii)
(k)(34) | (i) | (ii)
(k)(35) | (i) | (ii)
(k)(36) | (i) | (ii)
(k)(37) | (i) | (ii)
(k)(38) | (i) | (ii)
(k)(39) | (i) | (ii)
(k)(40) | (i) | (ii)
(k)(41) | (i) | (ii)
(k)(42) | (i) | (ii)
(k)(43) | (i) | (ii)
(k)(44) | (i) | (iii)
(k)(45) | (i) | (ii)
(k)(46) | (i) | (ii)
(k)(47) | (i) | (ii)
(k)(48) | (i) | (ii)
(k)(49) | (i) | (ii)
(k)(50) | (i) | (ii)
(k)(51) | (i) | (ii)
(k)(52) | (i) | (ii)
(k)(57) | (i) | (ii)
(k)(58) | (i) | (ii)
(k)(59) | (i) | (ii)
(k)(60) | (i) | (ii)
(k)(61) | (i) | (ii)
(k)(62) | (i) | (ii)
(k)(63) | (i) | (ii)
(k)(64) | (i) | (ii)
(k)(65) | (i) | (ii)
(k)(66) | (i) | (ii)
(k)(67) | (i) | (ii)
(k)(68) | (i) | (ii)
(k)(69) | (i) | (ii)
(k)(70) | (i) | (ii)
(k)(71) | (i) | (ii)
(k)(72) | (i) | (ii)
(k)(73) | (i) | (ii)
(k)(74) | (i) | (ii)
(k)(75) | (i) | (ii)
(k)(76) | (i) | (ii)
(k)(77) | (i) | (ii)
(k)(78) | (i) | (ii)
(k)(79) | (i) | (ii)
(k)(80) | (i) | (ii)
(k)(81) | (i) | (ii)
(k)(82) | (i) | (ii)
(k)(83) | (i) | (ii)
(k)(84) | (i) | (ii)
(k)(85) | (i) | (ii)
(k)(86) | (i) | (ii)
(k)(87) | (i) | (ii)
(k)(88) | (i) | (ii)
(k)(89) | (i) | (ii)
(k)(90) | (i) | (ii)
(k)(91) | (i) | (ii)
(k)(92) | (i) | (ii)
(k)(93) | (i) | (ii)
(k)(94) | (i) | (ii)
(k)(95) | (i) | (ii)
(k)(96) | (i) | (ii)
(k)(98) | (i) | (ii)
(k)(99) | (i) | (ii)
(k)(103) | (i) | (ii)

Dated: August 30, 2017.
James W. Kurth,
Acting Director, U.S. Fish and Wildlife Service.

[FR Doc. 2017-23399 Filed 10-26-17; 8:45 am]

BILLING CODE 4333-15-P